DEPARTMENT OF COMMERCE

Patent and Trademark Office

[Docket No. PTO-C-2008-0003]

National Medal of Technology and Innovation Nomination Evaluation Committee Meeting

AGENCY: United States Patent and Trademark Office, Commerce.

ACTION: Notice of closed meeting.

SUMMARY: The National Medal of Technology and Innovation (NMTI) Nomination Evaluation Committee will meet in closed session on Tuesday, March 4, 2008. The primary purpose of the meeting is the discussion of relative merits of persons and companies nominated for the NMTI award.

DATES: The meeting will convene Tuesday, March 4, 2008, at 10 a.m. and adjourn at 4 p.m.

ADDRESSES: The meeting will be held at the United States Patent and Trademark Office, 600 Dulany Street, Alexandria, VA 22314.

FOR FURTHER INFORMATION CONTACT: Jennifer Lo, Program Manager, National Medal of Technology and Innovation Program, United States Patent and Trademark Office, P.O. Box 1450, Alexandria, VA 22313-1450, telephone (571) 272-7640, or by electronic mail: nmti@uspto.gov.

SUPPLEMENTARY INFORMATION: Pursuant to the Federal Advisory Committee Act, 5 U.S.C. app. 2, notice is hereby given that the NMTI Nomination Evaluation Committee, United States Patent and Trademark Office, will meet at the United States Patent and Trademark Office campus in Alexandria, VA.

The NMTI Nomination Evaluation Committee was established in accordance with the provisions of the NMTI Nomination Evaluation Committee's charter and the Federal Advisory Committee Act. The NMTI Nomination Evaluation Committee meeting will be closed to the public in accordance with section 552b(c)(4), (6) and (9)(B) of Title 5, U.S.C. because it will involve discussion of relative merits of persons and companies nominated for the NMTI. Public disclosure of this information would likely frustrate implementation of the NMTI program because premature publicity about candidates under consideration for the NMTI award, who may or may not ultimately receive the award, would be likely to discourage nominations for the award. The Secretary of Commerce is responsible for recommending to the President prospective NMTI recipients. The NMTI Nomination Evaluation Committee makes its recommendations for the NMTI candidates to the Secretary of Commerce, who in turn makes recommendations to the President for final selection. NMTI Nomination Evaluation Committee members are drawn from both the public and private sectors and are appointed by the Secretary for three-year terms, with eligibility for one reappointment. The NMTI Nomination Evaluation Committee members are composed of distinguished experts in the fields of science, technology, business and patent law. The General Counsel formally determined on January 18, 2008, pursuant to section 10(d) of the Federal Advisory Committee Act, that the meeting may be closed because Committee members are concerned with matters that are within the purview of 5 U.S.C. 552b(c)(4), (6) and (9)(B). Due to closure of the meeting, copies of the minutes of the meeting will not be available. A copy of the determination is available for public inspection at the United States Patent and Trademark Office.

Dated: February 5, 2008.
Jon W. Dudas,
Under Secretary of Commerce for Intellectual Property and Director of the United States Patent and Trademark Office.

[FR Doc. E8-2511 Filed 2-11-08; 8:45 am]

BILLING CODE 3510-16-P